DEPARTMENT OF VETERANS AFFAIRS

[OMB Control No. 2900-NEW]

Agency Information Collection Activity: Application for Veteran Employment through Technology Education Courses High Technology Program

AGENCY: Veterans Benefits Administration, Department of Veterans Affairs.

ACTION: Notice.

SUMMARY: Veterans Benefits Administration, Department of Veterans Affairs (VA), is announcing an opportunity for public comment on the proposed collection of certain information by the agency. Under the Paperwork Reduction Act (PRA) of 1995, Federal agencies are required to publish notice in the Federal Register concerning each proposed collection of information, including each proposed new collection of information, and allow 60 days for public comment in response to the notice.

DATES: Written comments and recommendations on the proposed collection of information should be received on or before February 19, 2019.

ADDRESSES: Submit written comments on the collection of information through Federal Docket Management System (FDMS) at www.Regulations.gov or to Nancy J. Kessinger, Veterans Benefits Administration (20M33), Department of Veterans Affairs, 810 Vermont Avenue NW, Washington, DC 20420 or email to nancy.kessinger@va.gov. Please refer to “OMB Control No. 2900-NEW in any correspondence. During the comment period, comments may be viewed online through the FDMS.

FOR FURTHER INFORMATION CONTACT: Danny S. Green, Quality, Privacy and Risk, at (202) 421-1354.

SUPPLEMENTARY INFORMATION: Under the PRA of 1995, Federal agencies must obtain approval from the Office of Management and Budget (OMB) for each collection of information they conduct or sponsor. This request for comment is being made pursuant to Section 3506(c)(2)(A) of the PRA.

With respect to the following collection of information, VBA invites comments on: (1) Whether the proposed collection of information is necessary for the proper performance of VBA's functions, including whether the information will have practical utility; (2) the accuracy of VBA's estimate of the burden of the proposed collection of information; (3) ways to enhance the quality, utility, and clarity of the information to be collected; and (4) ways to minimize the burden of the collection of information on respondents, including through the use of automated collection techniques or the use of other forms of information technology.

Authority: P.L. 115-48, section 116; 44 U.S.C. 3501-3521.

Title: Application for Veteran Employment through Technology Education Courses (VET TEC) High Technology Program. VA Form 22-0994.

OMB Control Number: 2900-NEW.

Type of Review: New Information Collection.

Abstract: On August 16, 2017, the President signed into law the Harry W. Colmery Veterans Educational Assistance Act of 2017 (“Forever GI Bill”), Public Law 115-48, which amends Title 38, United States Code to make certain improvements in the laws administered by the Secretary of Veterans Affairs (VA), and for other purposes. Section 116 of the law authorizes VA to establish a 5-year high technology pilot program for veterans as an educational program provided by leading technology employers. This program allows veterans to enroll in courses outside the traditional definition of higher education to obtain skillsets highly desired by employers.

VA claims examiners use the information from this collection to help determine whether an applying individual qualifies for the Veteran Employment through Technology Education Courses (VET TEC) High Technology Program. The information on the form can be obtained only from the claimant, and a determination cannot be made without the information.

Affected Public: Providers of High Technology Programs.

Estimated Annual Burden: 550 hours.

Estimated Average Burden: 10 minutes.

Frequency of Response: Once Annually.

Estimated Number of Respondents: 3,000.

By direction of the Secretary.
Danny S. Green,
Interim Department Clearance Officer, Office of Quality, Privacy and Risk, Department of Veterans Affairs.

[FR Doc. 2018-27503 Filed 12-19-18; 8:45 am]

BILLING CODE 8320-01-P